DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with February anniversary dates. In accordance with the Department's regulations, we are initiating those administrative reviews.

DATES: Effective April 10, 2017.

FOR FURTHER INFORMATION CONTACT: Brenda E. Waters, Office of AD/CVD Operations, Customs Liaison Unit, Enforcement and Compliance, International Trade Administration, U.S. Department of Commerce, 1401 Constitution Avenue NW., Washington, DC 20230, telephone: (202) 482-4735.

SUPPLEMENTARY INFORMATION:

Background

The Department has received timely requests, in accordance with 19 CFR 351.213(b), for administrative reviews of various antidumping and countervailing duty orders and findings with February anniversary dates.

All deadlines for the submission of various types of information, certifications, or comments or actions by the Department discussed below refer to the number of calendar days from the applicable starting time.

Notice of No Sales

If a producer or exporter named in this notice of initiation had no exports, sales, or entries during the period of review (“POR”), it must notify the Department within 30 days of publication of this notice in the Federal Register. All submissions must be filed electronically at http://access.trade.gov in accordance with 19 CFR 351.303.¹ Such submissions are subject to verification in accordance with section 782(i) of the Tariff Act of 1930, as amended (“the Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, except for the reviews of the antidumping duty orders on certain crystalline silicon photovoltaic products from Taiwan and the People's Republic of China (“PRC”), the Department intends to select respondents based on U.S. Customs and Border Protection (“CBP”) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Respondent Selection—Certain Crystalline Silicon Photovoltaic Products From Taiwan and the PRC

In the event the Department limits the number of respondents selected for individual examination in the administrative reviews of the antidumping duty orders on certain crystalline silicon photovoltaic products from Taiwan and the PRC, the Department intends to select respondents, for those two reviews, based on volume data contained in responses to Q&V Questionnaires. Further, the Department intends to limit the number of Q&V Questionnaires issued in those two reviews, based on CBP data for U.S. imports of solar cells and/or solar modules. We note that the units used to measure U.S. import quantities of solar cells and solar modules in CBP data are “number”; however, it would not be meaningful to sum the number of imported solar cells and the number of imported solar modules in attempting to determine the volume of subject merchandise exported by Taiwanese exporters. Moreover, we also have concerns regarding inconsistencies in the unit of measure used to report CBP data for solar modules exported from the PRC. Therefore, the Department will limit the number of Q&V Questionnaires issued based on the import values in CBP data which will serve as a proxy for imported quantities. Parties subject to these two antidumping duty administrative reviews of certain crystalline silicon photovoltaic products to which the Department does not send a Q&V Questionnaire may file a response to the Q&V Questionnaire by the applicable deadline if they desire to be included in the pool of companies from which the Department will select mandatory respondents. The Q&V Questionnaire will be available on the Department's Web site at http://trade.gov/enforcement/news.asp on the date of publication of this notice in the Federal Register. The responses to the Q&V Questionnaire must be received by the Department no later than 14 days after the publication date of this initiation notice. Please be advised that due to the time constraints imposed by the statutory and regulatory deadlines for antidumping duty administrative reviews, the Department does not intend to grant any extensions for the submission of responses to the Q&V Questionnaire. Parties will be given the opportunity to comment on the CBP data used by the Department to limit the number of Q&V Questionnaires issued. We intend to place CBP data on the record within five days of publication of this notice in the Federal Register. Comments regarding the CBP data and respondent selection should be submitted seven days after placement of the CBP data on the record.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise. In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Furthermore, companies to which the Department issues Q&V Questionnaires in the administrative review of the antidumping duty order on certain crystalline silicon photovoltaic products from the PRC must submit a timely and complete response to the Q&V Questionnaire, in addition to a timely and complete Separate Rate Status Application or Separate Rate Certification in order to receive consideration for separate-rate status. In other words, the Department will not give consideration to any timely Separate Rate Status Application or Separate Rate Certification made by parties to whom the Department issued a Q&V Questionnaire but who failed to respond in a timely manner to the Q&V Questionnaire. Exporters subject to the administrative review of the antidumping duty order on certain crystalline silicon photovoltaic products from the PRC to which the Department does not send a Q&V Questionnaire may receive consideration for separate-rate status if they file a timely Separate Rate Status Application or a timely Separate Rate Certification without filing a response to the Q&V Questionnaire. All information submitted by respondents in the antidumping duty administrative review of certain crystalline silicon photovoltaic products from the PRC is subject to verification. As noted above, the Separate Rate Certification, the Separate Rate Status Application, and the Q&V Questionnaire will be available on the Department's Web site on the date of publication of this notice in the Federal Register.

Initiation of Reviews:

In accordance with 19 CFR 351.221(c)(1)(i), we are initiating administrative reviews of the following antidumping and countervailing duty orders and findings. We intend to issue the final results of these reviews not later than February 28, 2018.

| Period to be reviewed
Antidumping Duty Proceedings
Brazil: Stainless Steel Bar, A-351-825 | 2/1/16-1/31/17
Villares Metals S.A
India: Certain Preserved Mushrooms, A-533-813 | 2/1/16-1/31/17
Himalya International Limited
India: Certain Frozen Warmwater Shrimp, A-533-840 | 2/1/16-1/31/17
Abad Fisheries
Akshay Food Impex Private Limited
Alashore Marine Exports (P) Ltd
Alpha Marine
Allana Frozen Foods Pvt. Ltd
Allanasons Ltd
AMI Enterprises
Amulya Seafoods
Amarsagar Seafoods Exports Private Limited
Ananda Aqua Applications/Ananda Aqua Exports (P) Limited/Ananda Foods
Ananda Enterprises (India) Private Limited
Angelique Intl
Anjaneya Seafoods
Apex Frozen Foods Private Limited
Aquatica Frozen Foods Global Pvt. Ltd
Arya Sea Foods Private Limited
Asvini Exports
Avanti Feeds Limited/Avanti Frozen Foods Private Limited. ⁴
Asvini Fisheries Ltd/Asvini Fisheries Private Limited
Ayshwarya Seafood Private Limited
B-One Business House Pvt. Ltd
B R Traders
Baby Marine Exports
Baby Marine International
Baby Marine Sarass
Baby Marine Ventures
Balasore Marine Exports Private Limited
Bay Seafoods
Bhatsons Aquatic Products
Bhavani Seafoods
Bijaya Marine Products
Blue Fin Frozen Foods Pvt. Ltd
Blue Water Foods & Exports P. Ltd
Bluepark Seafoods Private Ltd
BMR Exports
BMR Industries Private Limited
Britto Exports
C P Aquaculture (India) Ltd
Calcutta Seafoods Pvt. Ltd
Canaan Marine Products
Capithan Exporting Co
Cargomar Private Limited
Castlerock Fisheries Ltd
Chakri Fisheries Private Limited
Chemmeens (Regd)
Cherukattu Industries (Marine Div.)
Choice Trading Corporation Private Limited
Coastal Aqua
Coastal Corporation Ltd
Cochin Frozen Food Exports Pvt. Ltd
Coreline Exports
Corlim Marine Exports Pvt. Ltd
Crystal Sea Foods Private Limited
D2 D Logistics Private Limited
Damco India Private Limited
Delsea Exports Pvt. Ltd
Devi Aquatech Private Limited
Devi Fisheries Limited/Satya Seafoods Private Limited/Usha Seafoods
Devi Marine Food Exports Private Ltd/Kader Exports Private Limited/Kader Investment and Trading Company Private Limited/Liberty Frozen Foods Pvt. Ltd/Liberty Oil Mills Ltd/Premier Marine Products Private Limited/Universal Cold Storage Private Limited
Devi Sea Foods Limited. ⁵
Diamond Seafoods Exports/Edhayam Frozen Foods Pvt. Ltd/Kadalkanny Frozen Foods/Theva & Company
Edhayam Frozen Foods Private Limited
Esmario Export Enterprises
Exporter Coreline ExportsFalcon Marine Exports Limited/K.R. Enterprises
Febin Marine Foods
Five Star Marine Exports Private Limited
Forstar Frozen Foods Pvt. Ltd
Frontline Exports Pvt. Ltd
G A Randerian Ltd
Gadre Marine Exports
Galaxy Maritech Exports P. Ltd
Geo Aquatic Products (P) Ltd
Geo Seafoods
Goodwill Enterprises
Grandtrust Overseas (P) Ltd
Growel Processors Private Limited
GVR Exports Pvt. Ltd
Haripriya Marine Export Pvt. Ltd
Harmony Spices Pvt. Ltd
HIC ABF Special Foods Pvt. Ltd
Hindustan Lever, Ltd
Hiravata Ice & Cold Storage
Hiravati Exports Pvt. Ltd
Hiravati International Pvt. Ltd (located at APM—Mafco Yard, Sector—18, Vashi, Navi, Mumbai—400 705, India)
Hiravati International Pvt. Ltd (located at Jawar Naka, Porbandar, Gujarat, 360 575, India)
HN Indigos Private Limited
Hyson Logistics and Marine Exports Private Limited
IFB Agro Industries Ltd
Indian Aquatic Products
Indo Aquatics
Indo Fisheries
Indo French Shellfish Company Private Limited
Innovative Foods Limited
International Freezefish Exports
Interseas
ITC Limited, International Business
ITC Ltd
Jagadeesh Marine Exports
Jayalakshmi Sea Foods Pvt. Ltd
Jinny Marine Traders
Jiya Packagings
K V Marine Exports
Kadalkanny Frozen Foods
Kader Exports Private Limited
Kader Investment and Trading Company Private Limited
Kalyan Aqua & Marine Exp. India Pvt. Ltd
Kalyanee Marine
Kanch Ghar
Karunya Marine Exports Private Limited
Kay Kay Exports
Kay Kay Exports (Kay Kay Foods)
Kings Marine Products
KNC Agro Limited
Koluthara Exports Ltd
Landauer Ltd
Liberty Frozen Foods Private Limited
Liberty Oil Mills Ltd
Libran Cold Storages (P) Ltd
Magnum Estates Limited
Magnum Export
Magnum Sea Foods Limited
Malabar Arabian Fisheries
Malnad Exports Pvt. Ltd
Mangala Marine Exim India Pvt. Ltd
Mangala Sea Foods
Mangala Sea Products
Marine Harvest India
Meenaxi Fisheries Pvt. Ltd
Milesh Marine Exports Private Limited
Monsun Foods Pvt Ltd
Munnangi Sea Foods Pvt. Ltd
N.C. John & Sons (P) Ltd
Naga Hanuman Fish Packers
Naik Frozen Foods Private Limited
Naik Seafoods Ltd
Naik Oceanic Exports Pvt. Ltd/Rafiq Naik Exports Pvt. Ltd
Neeli Aqua Private Limited
Nekkanti Sea Foods Limited
Nezami Rekha Sea Foods Private Limited
NGR Aqua International
Nila Sea Foods Exports
Nila Sea Foods Pvt. Ltd
Nine Up Frozen Foods
Nutrient Marine Foods Ltd
Oceanic Edibles International Limited
Paragon Sea Foods Pvt. Ltd
Paramount Seafoods
Parayil Food Products Pvt. Ltd
Pasupati Aquatics Private Limited
Penver Products Pvt. Ltd
Pesca Marine Products Pvt. Ltd
Pijikay International Exports P Ltd
Pisces Seafood International
Pravesh Seafood Private Limited
Premier Exports International
Premier Marine Foods
Premier Seafoods Exim (P) Ltd
R V R Marine Products Limited
Raa Systems Pvt. Ltd
Raju Exports
Ram's Assorted Cold Storage Ltd
Raunaq Ice & Cold Storage
Raysons Aquatics Pvt. Ltd
Razban Seafoods Ltd
RBT Exports
RDR Exports
RF Exports
Riviera Exports Pvt. Ltd
Rohi Marine Private Ltd
Royal Marine Impex Private Limited
RSA Marines
S & S Seafoods
S Chanchala Combines
S. A. Exports
Safa Enterprises
Sagar Grandhi Exports Pvt. Ltd
Sagar Samrat Seafoods
Sagarvihar Fisheries Pvt. Ltd
Sai Marine Exports Pvt. Ltd
Sai Sea Foods
Salvam Exports (P) Ltd
Sanchita Marine Products Private Limited
Sandhya Aqua Exports
Sandhya Aqua Exports Pvt. Ltd
Sandhya Marines Limited
Santhi Fisheries & Exports Ltd
Sarveshwari Exports
Satya Seafoods Private Limited
Sea Foods Private Limited
Seagold Overseas Pvt. Ltd
Selvam Exports Private Limited
Sharat Industries Ltd
Sharma Industries
Shimpo Exports Pvt. Ltd
Shimpo Seafoods Private Limited
Shiva Frozen Food Exports Pvt. Ltd
Shree Datt Aquaculture Farms Pvt. Ltd
Shroff Processed Food & Cold Storage P Ltd
Silver Seafood
Sita Marine Exports
Southern Tropical Foods Pvt. Ltd
Sowmya Agri Marine Exports
Sprint Exports Pvt. Ltd Sri Sakkthi Cold Storage
Sri Venkata Padmavathi Marine Foods Pvt. Ltd
Srikanth International
Star Agro Marine Exports Private Limited
Star Organic Foods Incorporated
Star Organic Foods Private Limited
Sterling Foods
Sun-Bio Technology Ltd
Sunrise Aqua Food Exports
Supran Exim Private Limited
Suryamitra Exim (P) Ltd
Suvarna Rekha Exports Private Limited
Suvarna Rekha Marines P Ltd
TBR Exports Pvt Ltd
Teekay Marine P. Ltd
The Waterbase Limited
Triveni Fisheries P Ltd
U & Company Marine Exports
Ulka Sea Foods Private Limited
Uniroyal Marine Exports Ltd
Unitriveni Overseas
Universal Cold Storage Private Limited
Usha Seafoods
V V Marine Products
V.S. Exim Pvt Ltd
Vasai Frozen Food Co
Vasista Marine
Veejay Impex
Veerabhadra Exports Private Limited
Veronica Marine Exports Private Limited
Victoria Marine & Agro Exports Ltd
Vinner Marine
Vitality Aquaculture Pvt., Ltd
Wellcome Fisheries Limited
West Coast Fine Foods (India) Private Limited
West Coast Frozen Foods Private Limited
Z A Sea Foods Pvt. Ltd
India: Stainless Steel Bar, A-533-810 | 2/1/16-1/31/17
Ambica Stainless Steel Limited (now known as Aamor Inox Limited)
Ambica Steels Limited
Bhansali Bright Bars Pvt. Ltd
Italy: Stainless Steel Butt-Weld Pipe Fittings, A-475-828 | 2/1/16-1/31/17
Filmag Italia Spa
Mexico: Large Residential Washers, A-201-842 | 2/1/16-1/31/17
Electrolux Home Corp. NV
Electrolux Home Products de Mexico S.A. de C.V
Electrolux Hone Products, Inc
Republic of Korea: Certain Cut-to-Length Carbon-Quality Steel Plate Products, A-580-836 | 2/1/16-1/31/17
Bookuk Steel Co., Ltd
Daewoo International Corp
Dongkuk Steel Mill Co., Ltd
Hyundai Glovis Co., Ltd
Hyundai Mipo Dockyard Co., Ltd
Hyundai Steel Company
Hyosung Corporation
Samsung C&T Corp
Samsung C&T Engineering & Construction Group
Samsung C&T Trading and Investment Group
Samsung Heavy Industries
SK Networks Co., Ltd
Steel N People Ltd
Sung Jin Steel Co., Ltd
Republic of Korea: Large Residential Washers, A-580-868 | 2/1/16-1/31/17
LG Electronics, Inc
LG Electronics, USA, Inc
Socialist Republic of Vietnam: Certain Frozen Warmwater Shrimp, A-552-802 | 2/1/16-1/31/17
Amanda Seafood Co., Ltd
Asia Food Stuffs Import Export Co., Ltd
Au Vung One Seafood Processing Import & Export Joint Stock Company
Au Vung Two Seafood Processing Import & Export Joint Stock Company
Bac Lieu Fisheries Joint Stock Company (“BacLieu Fis”)
Bac Lieu Fisheries Joint Stock Company
Ben Tre Forestry and Aquaproduct Import-Export Joint Stock Company (“Faquimex”)
Bentre Forestry and Aquaproduct Import-Export Joint Stock Company (FAQUIMEX)
Bentre Aquaproduct Import & Export Joint Stock Company
Bien Dong Seafood Co., Ltd
BIM Seafood Joint Stock Company
Binh Thuan Import—Export Joint Stock Company (THAIMEX)
B.O.P. Limited Co
C.P. Vietnam Corporation
C.P. Vietnam Corporation (“C.P.Vietnam”)
Ca Mau Seafood Joint Stock Company (“Seaprimexco Vietnam”)
Ca Mau Frozen Seafood Joint Stock Company (“Seaprimexco Vietnam”)
Cadovimex Seafood Import-Export and Processing Joint Stock Company (“Cadovimex”)
CADOVIMEX Seafood Import-Export and Processing Joint Stock Company
Cai Doi Vam Seafood Import-Export Co (“CADOVIMEX”)
Cafatex Corporation
Cam Ranh Seafoods
Camau Frozen Seafood Processing Import Export Corporation (“Camimex”)
Camau Seafood Processing and Service Joint Stock Corporation (“CASES”)
Camau Seafood Processing and Service Joint Stock Corporation (and its affiliates, Kien Giang Branch—Camau Seafood Processing 2 Service Joint Stock Corporation, collectively “CASES”)
Camau Seafood and Service Joint Stock Company (“CASES”)
Can Tho Import Export Fishery Limited Company (“CAFISH”)
Coastal Fisheries Development Corporation (“COFIDEC”)
CJ Freshway (FIDES Food System Co., Ltd)
Cong Ty Tnhh Thong Thuan (Thong Thuan)
Cuulong Seaproducts Company (“Cuulong Seapro”)
Dong Hai Seafood Limited Company
Duc Cuong Seafood Trading Co., Ltd
Fimex VN
Fine Foods Co (“FFC”)
Fine Foods Company (FFC)
Fine Foods Company (FFC) (Ca Mau Foods & Fishery Export Joint Stock Company)
Frozen Seafoods Factory No. 32 (Tho Quang Seafood Processing and Export Company)
Gallant Dachan Seafood Co., Ltd
Gallant Ocean (Vietnam) Co Ltd
Gallant Ocean (Viet Nam) Co., Ltd (“Gallant Ocean Vietnam”)
Green Farms Seafoods Joint Stock Company
Green Farms Joint Stock Company
Hai Viet Corporation (“HAVICO”)
Hanh An Trading Service Co., Ltd
Hoang Phuong Seafood Factory
Huynh Huong Seafood Processing
Investment Commerce Fisheries Corporation
Investment Commerce Fisheries Corporation (“Incomfish”)
JK Fish Co., Ltd
Khai Minh Trading Investment Corporation
Khanh Sung Company, Ltd
Kim Anh Company Limited
Kim Anh Company Ltd (Thai Tan company and Ngoc Thai Company, collectively “Kim Anh”)
Long Toan Frozen Aquatic Products Joint Stock Company
Minh Cuong Seafood Import-Export Processing (“MC Seafood”)
Minh Hai Export Frozen Seafood Processing Joint-Stock Company (“Minh Hai Jostoco”)
Minh Hai Joint-Stock Seafoods Processing Company (“Seaprodex Minh Hai”)
Minh Hai Joint-Stock Seafoods Processing Company
Minh Phu Seafood Corporation
My Son Seafoods Factory
Nam Hai Foodstuff and Export Company Ltd
New Wind Seafood Co., Ltd
Ngo Bros
Ngo Bros Seaproducts Import-Export One Member Company Limited (“Ngo Bros. Co., Ltd”)
NGO BROS Seaproducts Import-Export One Member Company Limited (“NGO BROS Company”)
Ngoc Tri Seafood Joint Stock Company
Nha Trang Seaproduct Company (and its affiliates NT Seafoods Corporation, Nha Trang Seafoods—F.89 Joint Stock Company, NTSF Seafoods Joint Stock Company (collectively “Nha Trang Seafoods Group' ”)
Nha Trang Fisheries Joint Stock Company (“Nha Trang Fisco”)
Nha Trang Fisheries Joint Stock Company
Nha Trang Seafoods
Nha Trang Seaproduct Company
Nhat Duc Co., Ltd
Phu Cuong Jostoco Seafood Corporation
Phuong Nam Co., Ltd
Phuong Nam Foodstuff Corp. (“Phuong Nam Co., Ltd”)
Phuong Nam Foodstuff Corp
Quang Minh Seafood Co., Ltd
Quang Minh Seafood Co LTD (“Quang Minh”)
Quoc Ai Seafood Processing Import Export Co., Ltd
Quoc Viet Seaproducts Processing Trading and Import-Export Co., Ltd
Quoc Viet Seaproducts Processing Trade and Import-Export Co., Ltd (“Quoc Viet Co Ltd”)
Saigon Food Joint Stock Company
Sao Ta Foods Joint Stock Company (FIMEX VN)
Sao Ta Foods Joint Stock Company
Sao Ta Foods Joint Stock Company (“FIMEX VN”) (and its factory “Sao Ta Seafoods Factory”)
Sea Minh Hai
Seafoods and Foodstuff Factory
Seaprimexco Vietnam
Seaprodex Minh Hai
Seavina Joint Stock Company
Soc Trang Seafood Joint Stock Company (“STAPIMEX”)
Tacvan Frozen Seafood Processing Export Company
Tacvan Seafoods Company
Tacvan Seafoods Company (“TACVAN”)
Tacvan Seafoods Company (TACVAN)
Tai Kim Anh Seafood Joint Stock Corporation
Taika Seafood Corporation
Tan Phong Phu Seafood Co., Ltd (“TPP Co., Ltd”)
Tan Thanh Loi Frozen Food Co., Ltd
Taydo Seafood Enterprise
Thanh Doan Sea Products Import & Export Processing Joint-Stock Company
Thinh Hung Co., Ltd
Thong Thuan Seafood Company Limited
Thong Thuan Company Limited
Thong Thuan Cam Ranh Seafood Joint Stock Company
Thong Thuan—Cam Ranh Seafood Joint Stock Company
Trong Nhan Seafood Company Limited
Thuan Phuoc Seafoods and Trading Corporation
Thuan Phuoc Seafoods and Trading Corporation (“Thuan Phuoc Corp”)
Thuan Phuoc Seafoods and Trading Corporation and its separate factories Frozen Seafoods Factory No. 32, Seafoods and Foodstuff Factory, and My Son Seafoods Factory (collectively “Thuan Phuoc Corp.”)
Trang Khan Seafood Co., Ltd
Trong Nhan Seafood Company Limited
Trong Nhan Seafood Co., Ltd (“Trong Nhan”)
Trung Son Seafood Processing Joint Stock Company (“Trung Son”)
UTXI Aquatic Products Processing Corporation
UTXI Aquatic Products Processing Company
UTXI Aquatic Products Processing Corporation (“UTXICO”) (and its branch Hoang Phuong Seafood Factory and Hoang Phong Seafood Factory)
Viet Foods Co., Ltd (“Viet Foods”)
Viet Hai Seafood Co., Ltd
Viet I-Mei Frozen Foods Co., Ltd
Viet I-Mei Frozen Foods Co Ltd (“Viet I-Mei”)
Vietnam Clean Seafood Corporation (“Vina Cleanfood”)
Viet Hai Seafood Co., Ltd
Vietnam Fish One Co., Ltd
Vinh Hoan Corp
Xi Nghiep Che Bien Thuy Suc San Xuat Kau Cantho
Socialist Republic of Vietnam: Steel Wire Garment Hangers, A-552-812 | 2/1/16-1/31/17
Angang Clothes Rack Manufacture Co
Asmara Home Vietnam
B2B Co., Ltd
Capco Wai Shing Viet Nam Co Ltd
Cong Ty Co Phan Moc Ao
CTN Co Ltd
C.T.N. International Ltd
CTN Limited Company
Cty Tnhn Mtv Xnk My Phuoc
Cty Thnh San Xuat My Phuoc Long An Factory
Dai Nam Group
Dai Nam Investment JSC
Diep Son Hangers Co Ltd
Diep Son Hangers One Member Co Ltd
Dong Nam A Co Ltd
Dong Nam A Hamico Joint Stock Company
Dong Nam A Trading Co
EST Glory Industrial Ltd
Focus Shipping Corp
Godoxa Vietnam Co Ltd
Godoxa Viet Nam Ltd
HCMC General Import and Export Investment Joint Stock Company
Hongxiang Business and Product Co., Ltd
Huqhu Co., Ltd
Infinite Industrial Hanger Limited
Infinite Industrial Hanger Co Ltd
Ju Fu Co Ltd
Linh Sa Hamico Company, Ltd
Long Phung Co Ltd
Lucky Cloud (Vietnam) Hanger Co Ltd
Minh Quang Hanger
Minh Quang Steel Joint Stock Company
Moc Viet Manufacture Co., Ltd
Nam A Hamico Export Joint Stock Co
Nghia Phoung Nam Production Company
Nguyen Haong Vu Co Ltd
N-Tech Vina Co Ltd
NV Hanger Co., Ltd
Quoc Ha Production Trading Services Co Ltd
Quyky Co., Ltd
Quyky Group
Quyky-Yangle International Co., Ltd
S.I.I.C
South East Asia Hamico Exports JSC
T.J. Co Ltd
T.J. Group
Tan Dihn Enterprise
Tan Dinh Enterprise
Tan Minh Textile Sewing Trading Co., Ltd
Thanh Hieu Manufacturing Trading Co Ltd
The Xuong Co Ltd
Thien Ngon Printing Co., Ltd
Top Sharp International Trading Limited
Triloan Hangers, Inc
Tri-State Trading
Trung Viet My Joint Stock Company
Truong Hong Lao—Viet Joint Stock Co., Ltd
Uac Co Ltd
Viet Anh Imp-Exp Joint Stock Co
Viet Hanger
Viet Hanger Investment, LLC
Vietnam Hangers Joint Stock Company
Vietnam Sourcing
VNS
VN Sourcing
Yen Trang Co., Ltd
Socialist Republic of Vietnam: Utility Scale Wind Towers, A-552-814 | 2/1/16-1/31/17
CS Wind Vietnam Co., Ltd and CS Wind Corporation. ⁶
Vina Halla Heavy Industries Ltd
UBI Tower Sole Member Company Ltd
Taiwan: Certain Crystalline Silicon Photovoltaic Products, A-583-853 | 2/1/16-1/31/17
AU Optronics Corporation
Baoding Jiasheng Photovoltaic Technology Co Ltd
Baoding Tianwei Yingli New Energy Resources Co., Ltd
Beijing Tianneng Yingli New Energy Resources Co Ltd
Boviet Solar Technology Co., Ltd
Canadian Solar Inc
Canadian Solar International, Ltd
Canadian Solar Manufacturing (Changshu), Inc
Canadian Solar Manufacturing (Luoyang), Inc
Canadian Solar Solution Inc
EEPV Corp
E-TON Solar Tech. Co., Ltd
Gintech Energy Corporation
Hainan Yingli New Energy Resources Co., Ltd
Hengshui Yingli New Energy Resources Co., Ltd
Inventec Energy Corporation
Inventec Solar Energy Corporation
Kyocera Mexicana S.A. de C.V
Lixian Yingli New Energy Resources Co., Ltd
Motech Industries, Inc
Neo Solar Power Corporation
Shenzhen Yingli New Energy Resources Co., Ltd
Sino-American Silicon Products Inc
Solartech Energy Corporation
Sunengine Corporation Ltd
Sunrise Global Solar Energy
Tianjin Yingli New Energy Resources Co., Ltd
Trina Solar (Schweiz) AG
Trina Solar (Singapore) Science and Technology Pte Ltd
TSEC Corporation
Vina Solar Technology Co., Ltd
Win Win Precision Technology Co., Ltd
Yingli Energy (China) Co., Ltd
Yingli Green Energy International Trading Company Limited
Thailand: Certain Frozen Warmwater Shrimp, A-549-822 | 2/1/16-1/31/17
A Foods 1991 Co., Limited/May Ao Foods Co., Ltd
A. Wattanachai Frozen Products Co., Ltd
A.P. Frozen Foods Co., Ltd
A.S. Intermarine Foods Co., Ltd
ACU Transport Co., Ltd
Ampai Frozen Food Co., Ltd
Anglo-Siam Seafoods Co., Ltd
Apex Maritime (Thailand) Co., Ltd
Apitoon Enterprise Industry Co., Ltd
Applied DB Ind
Asian Seafood Coldstorage (Sriracha)
Asian Seafoods Coldstorage Public Co., Ltd/Asian Seafoods Coldstorage (Suratthani) Co., Limited/STC Foodpak Ltd
Assoc. Commercial Systems
B.S.A. Food Products Co., Ltd
Bangkok Dehydrated Marine Product Co., Ltd
C Y Frozen Food Co., Ltd
C.P. Mdse
C.P. Merchandising Co., Ltd/Charoen Pokphand Foods Public Co., Ltd/Klang Co., Ltd/Seafoods Enterprise Co., Ltd/Thai Prawn Culture Center Co., Ltd
C.P. Retailing and Marketing Co., Ltd
C.P. Intertrade Co Ltd
Calsonic Kansei (Thailand) Co., Ltd
Century Industries Co., Ltd
Chaivaree Marine Products Co., Ltd
Chaiwarut Company Limited
Charoen Pokphand Petrochemical Co., Ltd
Chonburi LC
Chue Eie Mong Eak
Commonwealth Trading Co., Ltd
Core Seafood Processing Co., Ltd
C.P.F. Food Products Co., Ltd
Crystal Frozen Foods Co., Ltd
Crystal Seafood
Daedong (Thailand) Co Ltd
Daiei Taigen (Thailand) Co., Ltd
Daiho (Thailand) Co., Ltd
Dynamic Intertransport Co., Ltd
Earth Food Manufacturing Co., Ltd
F.A.I.T. Corporation Limited
Far East Cold Storage Co., Ltd
Findus (Thailand) Ltd
Fortune Frozen Foods (Thailand) Co., Ltd
Frozen Marine Products Co., Ltd
Gallant Ocean (Thailand) Co., Ltd
Gallant Seafoods Corporation
Global Maharaja Co., Ltd
Golden Sea Frozen Foods Co., Ltd
Golden Thai Imp. & Exp. Co., Ltd
Good Fortune Cold Storage Co Ltd
Good Luck Product Co., Ltd
Grobest Frozen Foods Co., Ltd
Gulf Coast Crab Intl
H.A.M. International Co., Ltd
Haitai Seafood Co., Ltd
Handy International (Thailand) Co., Ltd
Heng Seafood Limited Partnership
Heritrade
HIC (Thailand) Co., Ltd
High Way International Co., Ltd
I.S.A. Value Co., Ltd
I.T. Foods Industries Co., Ltd
Inter-Oceanic Resources Co., Ltd
Inter-Pacific Marine Products Co., Ltd
K & U Enterprise Co., Ltd
K Fresh
K.D. Trading Co., Ltd
K.L. Cold Storage Co., Ltd
KF Foods Ltd
Kiang Huat Sea Gull Trading Frozen Food Public Co., Ltd
Kibun Trdg
Kingfisher Holdings Ltd
Kitchens of the Oceans (Thailand) Company, Ltd
Kongphop Frozen Foods Co., Ltd
Lee Heng Seafood Co., Ltd
Leo Transports
Li-Thai Frozen Foods Co., Ltd
Lucky Union Foods Co., Ltd
Magnate & Syndicate Co., Ltd
Mahachai Food Processing Co., Ltd
Mahachai Marine Foods Co., Ltd
Marine Gold Products Ltd.⁷
Merit Asia Foodstuff Co., Ltd
Merkur Co., Ltd
Ming Chao Ind Thailand
N&N Foods Co., Ltd
N.R. Instant Produce Co., Ltd
Namprik Maesri Ltd Part
Narong Seafood Co., Ltd
Nongmon SMJ Products
Ongkorn Cold Storage Co., Ltd/Thai-Ger Marine Co., Ltd
Pacific Queen Co., Ltd
Pakfood Public Company Limited/Asia Pacific (Thailand) Co., Ltd/Chaophraya Cold Storage Co., Ltd/Okeanos Co., Ltd/Okeanos Food Co., Ltd/Takzin Samut Co., Ltd/Thai Union Group Public Co., Ltd/Thai Union Seafood Co., Ltd.⁸
Pakpanang Coldstorage Public Co., Ltd
Penta Impex Co., Ltd
Pinwood Nineteen Ninety Nine
Piti Seafood Co., Ltd
Premier Frozen Products Co., Ltd
Preserved Food Specialty Co., Ltd
Queen Marine Food Co., Ltd
Rayong Coldstorage (1987) Co., Ltd
S2K Marine Product Co., Ltd
S&D Marine Products Co., Ltd
S&P Aquarium
S&P Syndicate Public Company Ltd
S. Chaivaree Cold Storage Co., Ltd
S. Khonkaen Food Industry Public Co., Ltd and/or S. Khonkaen Food Ind. Public
S.K. Foods (Thailand) Public Co Limited
Samui Foods Company Limited
SB Inter Food Co., Ltd
SCT Co., Ltd
Sea Bonanza Food Co., Ltd
SEA NT'L CO., LTD
Seafresh Fisheries/Seafresh Industry Public Co., Ltd
Search and Serve
Sethachon Co., Ltd
Shianlin Bangkok Co., Ltd
Shing Fu Seaproducts Development Co
Siam Food Supply Co., Ltd
Siam Haitian Frozen Food Co., Ltd
Siam Intersea Co., Ltd
Siam Marine Products Co Ltd
Siam Ocean Frozen Foods Co Ltd
Siam Union Frozen Foods
Siamchai International Food Co., Ltd
Smile Heart Foods
SMP Food Products, Co., Ltd
Southport Seafood Co., Ltd
Star Frozen Foods Co., Ltd
Starfoods Industries Co., Ltd
Suntechthai Intertrading Co., Ltd
Surapon Foods Public Co., Ltd/Surat Seafoods Public Co., Ltd
Surapon Nichirei Foods Co., Ltd
Suratthani Marine Products Co., Ltd
Suree Interfoods Co., Ltd
T.S.F. Seafood Co., Ltd
Tep Kinsho Foods Co., Ltd
Teppitak Seafood Co., Ltd
Tey Seng Cold Storage Co., Ltd
Thai Agri Foods Public Co., Ltd
Thai Hanjin Logistics Co., Ltd
Thai Mahachai Seafood Products Co., Ltd
Thai Ocean Venture Co., Ltd
Thai Patana Frozen
Thai Pak Exports Co., Ltd
Thai Royal Frozen Food Co., Ltd
Thai Spring Fish Co., Ltd
Thai Union Manufacturing Company Limited
Thai World Import and Export Co., Ltd
Thai Yoo Ltd., Part
The Siam Union Frozen Foods Co., Ltd
The Union Frozen Products Co., Ltd/Bright Sea Co., Ltd
Trang Seafood Products Public Co., Ltd
Transamut Food Co., Ltd
Tung Lieng Tradg
United Cold Storage Co., Ltd
V. Thai Food Product Co., Ltd
Wann Fisheries Co., Ltd
Xian-Ning Seafood Co., Ltd
Yeenin Frozen Foods Co., Ltd
ZAFCO TRDG
The People's Republic of China: Certain Crystalline Silicon Photovoltaic Products, A-570-010 | 2/1/16-1/31/17
BYD (Shangluo) Industrial Co., Ltd
Canadian Solar Inc.
Canadian Solar International Limited
Canadian Solar Manufacturing (Changshu), Inc
Canadian Solar Manufacturing (Luoyang) Inc
Changzhou Trina Solar Energy Co., Ltd/Trina Solar (Changzhou) Science & Technology Co., Ltd
Chint Solar (Zhejiang) Co., Ltd
Hefei JA Solar Technology Co., Ltd
Jinko Solar Co Ltd/Jinko Solar Import and Export Co., Ltd.⁹
Perlight Solar Co., Ltd
Risen Energy Co., Ltd
Shanghai BYD Co., Ltd
Shanghai JA Solar Technology Co., Ltd
Shenzhen Sungold Solar Co., Ltd
Sunny Apex Development Ltd
Wuxi Suntech Power Co., Ltd
Yingli Energy (China) Company Limited
Yingli Green Energy International Trading Limited
Baoding Jiasheng Photovoltaic Technology Co Ltd
Baoding Tianwei Yingli New Energy Resources Co., Ltd
Beijing Tianneng Yingli New Energy Resources Co Ltd
Hainan Yingli New Energy Resources Co., Ltd
Hengshui Yingli New Energy Resources Co., Ltd
Lixian Yingli New Energy Resources Co., Ltd
Shenzhen Yingli New Energy Resources Co., Ltd
Tianjin Yingli New Energy Resources Co., Ltd
Zhejiang Jinko Solar Co., Ltd
The People's Republic of China: Certain Frozen Warmwater Shrimp, A-570-893 | 2/1/16-1/31/17
Allied Pacific Aquatic Products (Zhanjiang) Co., Ltd.¹⁰
Allied Pacific Food (Dalian) Co., Ltd
llied Pacific (HK) Co., Ltd
Asian Seafoods (Zhanjiang) Co., Ltd
Beihai Anbang Seafood Co., Ltd
Beihai Boston Frozen Food Co., Ltd
Beihai Tianwei Aquatic Food Co Ltd
Changli Luquan Aquatic Products Co., Ltd
Dalian Beauty Seafood Company Ltd
Dalian Haiqing Food Co., Ltd
Dalian Rich Enterprise Group Co., Ltd
Dalian Shanhai Seafood Co., Ltd
Dalian Taiyang Aquatic Products Co., Ltd
Fujian Chaohui Group
Fujian Chaohui Aquatic Food Co., Ltd
Fujian Chaohui International Trading Co., Ltd
Fujian Dongshan County Shunfa Aquatic Product Co., Ltd
Fujian Dongya Aquatic Products Co., Ltd
Fujian Haohui Import & Export Co., Ltd
Fujian Hongao Trade Development Co
Fujian Rongjiang Import and Export Co., Ltd
Fujian Tea Import & Export Co., Ltd
Fujian Zhaoan Haili Aquatic Co., Ltd
Fuqing Chaohui Aquatic Food Co., Ltd
Fuqing Dongwei Aquatic Products Ind
Fuqing Dongwei Aquatic Products Industry Co., Ltd
Fuqing Longhua Aquatic Food Co., Ltd
Fuqing Minhua Trade Co., Ltd
Fuqing Yihua Aquatic Food Co., Ltd
Gallant Ocean Group
Guangdong Foodstuffs Import & Export (Group) Corporation
Guangdong Gourmet Aquatic Products Co., Ltd
Guangdong Jinhang Food Co., Ltd
Guangdong Wanshida Holding Corp
Guangdong Wanya Foods Fty. Co., Ltd
HaiLi Aquatic Product Co., Ltd Zhaoan Fujian
Hainan Brich Aquatic Products Co., Ltd
Hainan Golden Spring Foods Co., Ltd
Huazhou Xinhai Aquatic Products Co Ltd
Longhai Gelin Foods Co., Ltd
Maoming Xinzhou Seafood Co., Ltd
New Continent Foods Co., Ltd
North Seafood Group Co
Olanya (Germany) Ltd
Qingdao Fusheng Foodstuffs Co., Ltd
Qinhuangdao Gangwan Aquatic Products Co., Ltd
Red Garden Food Processing Co., Ltd.¹¹
Rizhao Rongxing Co Ltd
Rizhao Smart Foods Company Limited
Rongcheng Yinhai Aquatic Product Co., Ltd
Savvy Seafood Inc
Shanghai Zhoulian Foods Co., Ltd
Shantou Freezing Aquatic Product Foodstuffs Co
Shantou Jiazhou Food Industrial Co., Ltd
Shantou Jintai Aquatic Product Industrial Co., Ltd
Shantou Longsheng Aquatic Product Foodstuff Co., Ltd
Shantou Ocean Best Seafood Corporation
Shantou Red Garden Food Processing Co., Ltd
Shantou Red Garden Foodstuff Co., Ltd
Shantou Ruiyuan Industry Co., Ltd
Shantou Wanya Foods Fty. Co., Ltd
Shantou Yelin Frozen Seafood Co., Ltd. ¹²
Shantou Yuexing Enterprise Company
Thai Royal Frozen Food Zhanjiang Co., Ltd
Xiamen Granda Import and Export Co., Ltd
Yangjiang Dawu Aquatic Products Co., Ltd
Yangjiang Haina Datong Trading Co
Yantai Wei Cheng Food Co., Ltd
Yantai Wei-Cheng Food Co., Ltd
Zhangzhou Donghao Seafoods Co., Ltd
Zhangzhou Xinhui Foods Co., Ltd
Zhangzhou Xinwanya Aquatic Product Co., Ltd
Zhangzhou Yanfeng Aquatic Product & Foodstuff Co., Ltd
Zhanjiang Evergreen Aquatic Product Science and Technology Co., Ltd
Zhanjiang Fuchang Aquatic Products Freezing Plant
Zhanjiang Guolian Aquatic Products Co., Ltd. ¹³
Zhanjiang Jinguo Marine Foods Co., Ltd
Zhanjiang Longwei Aquatic Products Industry Co., Ltd
Zhanjiang Newpro Foods Co., Ltd
Zhanjiang Regal Integrated Marine Resources Co., Ltd. ¹⁴
Zhanjiang Universal Seafood Corp
Zhaoan Yangli Aquatic Co., Ltd
Zhejiang Xinwang Foodstuffs Co., Ltd
Zhoushan Genho Food Co., Ltd
The People's Republic of China: Small Diameter Graphite Electrodes, A-570-929 | 2/1/16-1/31/17
5-Continent Imp. & Exp. Co., Ltd
Acclcarbon Co., Ltd
Allied Carbon (China) Co., Limited
AMGL
Anssen Metallurgy Group Co., Ltd
Apex Maritime (Dalian) Co., Ltd
Asahi Fine Carbon (Dalian) Co., Ltd
Assi Steel Co Ltd
Beijing International Trade Co., Ltd
Beijing Kang Jie Kong Cargo Agent Expeditors (Tianjin Branch)
Beijing Shougang Huaxia International Trade Co Ltd
Beijing Xinchengze Inc
Beijing Xincheng Sci-Tech. Development Inc
Brilliant Charter Limited
Carbon International
Chang Cheng Chang Electrode Co., Ltd
Chengde Longhe Carbon Factory
Chengdelh Carbonaceous Elements Factory
Chengdu Jia Tang Corp
China Carbon Graphite Group Inc
China Carbon Industry
China Shaanxi Richbond Imp. & Exp. Industrial Corp. Ltd
China Xingyong Carbon Co., Ltd
CIMM Group Co., Ltd
Dalian Carbon & Graphite Corporation
Dalian Hongrui Carbon Co., Ltd
Dalian Honest International Trade Co., Ltd
Dalian Horton International Trading Co., Ltd
Dalian LST Metallurgy Co., Ltd
Dalian Oracle Carbon Co., Ltd
Dalian Shuangji Co., Ltd
Dalian Thrive Metallurgy Imp. & Exp. Co., Ltd
Dandong Xinxin Carbon Co Ltd
Datong Carbon
Datong Carbon Plant
Datong Xincheng Carbon Co., Ltd
Datong Xincheng New Material Co
Dechang Shida Carbon Co., Ltd
De Well Container Shipping Corp
Dewell Group
Dignity Success Investment Trading Co., Ltd
Double Dragon Metals and Mineral Tools Co., Ltd
Fangda Group (The Fangda Group consists of Beijing Fandga Carbon Tech Co., Ltd., Chengdu Rongguang Carbon Co., Ltd., Fangda Carbon New Material Co., Ltd., Fushun Carbon Co., Ltd., and Hefei Carbon Co., Ltd)
Fangda Lanzhou Carbon Joint Stock Company Co Ltd
Foset Co., Ltd
Fushun Carbon Plant
Fushun Jinly Petrochemical Carbon Co., Ltd., a.k.a. Fushun Jinli Petrochemical Carbon Co., Ltd
Fushun Oriental Carbon Co., Ltd
GES (China) Co Ltd
GR Industrial Corporation
Grafworld International Inc
Gold Success Group Ltd
Grameter Shipping Co., Ltd (Qingdao Branch)
Guangdong Highsun Yongye (Group) Co., Ltd
Guanghan Shida Carbon Co., Ltd
Haimen Shuguang Carbon Industry Co., Ltd
Handan Hanbo Material Co., Ltd
Hanhong Precision Machinery Co., Ltd
Hebei Long Great Wall Electrode Co., Ltd
Heico Universal (Shanghai) Distrubution Co., Ltd
Heilongjiang Xinyuan Carbon Co Ltd
Henan Sanli Carbon Products Co., Ltd
Henan Sihai Import and Export Co., Ltd
Hopes (Beijing) International Co., Ltd
Huanan Carbon Factory
Hunan Mec Machinery and Electronics Imp. & Exp. Corp
Hunan Yinguang Carbon Factory Co., Ltd
Inner Mongolia QingShan Special Graphite and Carbon Co., Ltd
Inner Mongolia Xinghe County Hongyuan Electrical Carbon Factory
Jiangsu Yafei Carbon Co., Ltd
Jiaozuo Zhongzhou Carbon Products Co., Ltd
Jichun International Trade Co., Ltd of Jilin Province
Jiexiu Juyuan Carbon Co., Ltd
Jiexiu Ju-Yuan & Coaly Co., Ltd
Jilin Carbon Graphite Material Co., Ltd
Jilin Carbon Import and Export Company
Jilin Songjiang Carbon Co Ltd
Jinneng Group
Jinneng Group Co., Ltd
Jinyu Thermo-Electric Material Co., Ltd
JL Group
Kaifeng Carbon Company Ltd
KASY Logistics (Tianjin) Co., Ltd
Kimwan New Carbon Technology and Development Co., Ltd
Kingstone Industrial Group Ltd
L & T Group Co., Ltd
Laishui Long Great Wall Electrode Co Ltd
Lanzhou Carbon Co., Ltd
Lanzhou Carbon Import & Export Corp
Lanzhou Hailong Technology
Lanzhou Hailong New Material Co
Lanzhou Ruixin Industrial Material Co., Ltd
Lianxing Carbon Qinghai Co., Ltd
Lianxing Carbon Science Institute
Lianxing Carbon (Shandong) Co., Ltd
Lianyungang Jianglida Mineral Co., Ltd
Lianyungang Jinli Carbon Co., Ltd
Liaoyang Carbon Co Ltd
Linghai Hongfeng Carbon Products Co., Ltd
Linyi County Lubei Carbon Co., Ltd
Maoming Yongye (Group) Co., Ltd
MBI Beijing International Trade Co., Ltd
Nantong Dongjin New Energy Co., Ltd
Nantong Falter New Energy Co., Ltd
Nantong River-East Carbon Co., Ltd
Nantong River-East Carbon Joint Stock Co., Ltd
Nantong Yangtze Carbon Corp. Ltd
Nantong Yanzi Carbon Co Ltd
Oracle Carbon Co., Ltd
Orient (Dalian) Carbon Resources Developing Co., Ltd
Orient Star Transport International, Ltd
Orient Carbon Co Limited
Peixian Longxiang Foreign Trade Co Ltd
Pingdingshan Coal Group
Pudong Trans USA, Inc. (Dalian Office)
Qingdao Grand Graphite Products Co., Ltd
Qingdao Haosheng Metals Imp. & Exp. Co., Ltd
Quingdao Haosheng Metals & Minerals Imp. & Exp. Co., Ltd
Qingdao Liyikun Carbon Development Co., Ltd
Qingdao Likun Graphite Co., Ltd
Qingdao Ruizhen Carbon Co., Ltd
Qingdao Yijia E.T.I. I/E Co., Ltd
Qingdao Youyuan Metallurgy Material Limited Company (China)
Ray Group Ltd
Rex International Forwarding Co., Ltd
Rt Carbon Co., Ltd
Ruitong Carbon Co., Ltd
Sea Trade International, Inc
Seamaster Global Forwarding (China)
Shandong Basan Carbon Plant
Shandong Zibo Continent Carbon Factory
Shanghai Carbon International Trade Co., Ltd
Shanghai GC Co., Ltd
Shanghai Jinneng International Trade Co., Ltd
Shanghai P.W. International Ltd
Shanghai Shen-Tech Graphite Material Co., Ltd
Shanghai Topstate International Trading Co., Ltd
Shanxi Cimm Donghai Advanced Carbon Co., Ltd
Shanxi Datong Energy Development Co., Ltd
Shanxi Foset Carbon Co Ltd
Shanxi Jiexiu Import and Export Co., Ltd
Shanxi Jinneng Group Co., Ltd
Shanxi Yunheng Graphite Electrode Co., Ltd
Shenyang Jinli Metals & Minerals Imp. & Exp. Co., Ltd
Shida Carbon Group
Shijaizhuang Carbon Co., Ltd
Shijiazhuang Huanan Carbon Factory
Sichuan 5-Continent Imp & Exp Co., Ltd
Sichuan Dechang Shida Carbon Co., Ltd
Sichuan GMT International Inc
Sichuan Guanghan Shida Carbon Co., Ltd
Sichuan Shida Carbon Co., Ltd
Sichuan Shida Trading Co., Ltd
Sinicway International Logistics Ltd
Sinosteel Anhui Co., Ltd
Sinosteel Corp.
Sinosteel Jilin Carbon Co., Ltd
Sinosteel Jilin Carbon Imp. & Exp. Co., Ltd
Sinosteel Jilin Carbon Plant
Sinosteel Sichuan Co., Ltd
SMMC Group Co., Ltd
Sure Mega (Hong Kong) Ltd
Tangshan Kimwan Special Carbon & Graphite Co., Ltd
Tengchong Carbon Co., Ltd
T.H.I. Global Holdings Corp
T.H.I. Group (Shanghai) Ltd
Tianjin (Teda) Iron & Steel Trade Co., Ltd
Tianjin Kimwan Carbon Technology and Development Co., Ltd
Tianjin Yue Yang Industrial & Trading Co., Ltd
Tianzhen Jintian Graphite Electrodes Co., Ltd
Tielong (Chengdu) Carbon Co., Ltd
UK Carbon & Graphite
United Carbon Ltd
United Trade Resources, Inc
Weifang Lianxing Carbon Co., Ltd
World Trade Metals & Minerals Co., Ltd
XC Carbon Group
Xinghe County Muzi Carbon Co., Ltd., a.k.a. Xinghe County Muzi Carbon Plant
Xinghe Xingyong Carbon Co., Ltd
Xinghe Xinyuan Carbon Products Co., Ltd
Xinyuan Carbon Co., Ltd
Xuanhua Hongli Refractory and Mineral Company
Xuchang Minmetals & Industry Co., Ltd
Xuzhou Carbon Co., Ltd
Xuzhou Electrode Factory
Xuzhou Jianglong Carbon Products Co., Ltd
Yangzhou Qionghua Carbon Trading Ltd
Yixing Huaxin Imp & Exp Co Ltd
Youth Industry Co., Ltd
Zhengzhou Jinyu Thermo-Electric Material Co., Ltd
Zibo Continent Carbon Factory
Zibo DuoCheng Trading Co., Ltd
Zibo Lianxing Carbon Co., Ltd
Zibo Wuzhou Tanshun Carbon Co., Ltd
The People's Republic of China: Uncovered Innerspring Units, A-570-928 | 2/1/16-1/31/17
Jietai Machinery Ltd (HK)
PT Sunhere Buana International
The People's Republic of China: Utility Scale Wind Towers, A-570-981 | 2/1/16-1/31/17
Alstom Sizhou Electric Power Equipment Co., Ltd
AUSKY (Shandong) Machinery Manufacturing Co., Ltd
AVIC International Renewable Energy Co., Ltd
Baotou Titan Wind Power Equipment Co., Ltd
Bashi Yuexin Logistics Development Co., Ltd
CATIC International Trade & Economic Development Ltd
Chengde Tianbao Machinery Co., Ltd
Chengxi Shipyard Co., Ltd
China WindPower Group
CleanTech Innovations Inc
CNR Wind Turbine Co., Ltd
CS Wind China Co., Ltd
CS Wind Corporation
CS Wind Tech (Shanghai) Co., Ltd
Dajin Heavy Industry Corporation
Greenergy Technology Co., Ltd
Guangdong No. 2 Hydropower Engineering Co., Ltd
Guodian United Power Technology Baoding Co., Ltd
Harbin Hongguang Boiler Group Co., Ltd
Hebei Ningqiang Group
Hebei Qiangsheng Wind Equipment Co., Ltd
Jiangsu Baolong Tower Tube Manufacture Co., Ltd
Jiangsu Baolong Electromechanical Mfg. Co., Ltd
Jiangsu Taihu Boiler Co., Ltd
Jiangyin Hengrun Ring Farging Co., Ltd
Jilin Miracle Equipment Manufacturing Engineering Co., Ltd
Jilin Tianhe Wind Power Equipment Co., Ltd (f/k/a Jilin Mingmen Wind Power Equipment Co., Ltd)
Jinan Railway Vehicles Equipment Co., Ltd
Nanjing Jiangbiao Group Co., Ltd
Nantong Dongtai New Energy Equipment Co., Ltd
Nantong Hongbo Windpower Equipment Co., Ltd
Ningxia Electric Power Group
Ningxia Yinxing Energy Co
Ningxia Yinyi Wind Power Generation Co., Ltd
Qingdao GeLinTe Environmental Protection Equipment Co., Ltd
Qingdao Ocean Group
Qingdao Pingcheng Steel Structure Co., Ltd
Qingdao Tianneng Electric Power Engineering Machinery Co., Ltd
Qingdao Wuxiao Group Co., Ltd
Renewable Energy Asia Group Ltd
SDV China Nanjing
Shandong Endless Wind Turbine Technical Equipment Co., Ltd
Shandong Iraeta Heavy Industry
Shandong Zhongkai Wind Power Equipment Manufacturers, Ltd
Shanghai Aerotech Trading International
Shanghai GE Guangdian Co., Ltd
Shanghai Taisheng Wind Power Equipment Co., Ltd
Shenyang Titan Metal Co., Ltd
Sinovel Wind Group Co., Ltd
Suihua Wuxiao Electric Power Equipment Co., Ltd
Titan (Lianyungang) Metal Product Co., Ltd
Titan Wind Energy (Suzhou) Co., Ltd
Vestas Wind Technology (China)
Wuxiao Steel Tower Co., Ltd
Xinjiang Huitong (Group) Co., Ltd
Zhangjiagang Zhiyi Medical Health
Countervailing Duty Proceedings
Republic of Korea: Cut-To-Length Carbon-Quality Steel Plate, C-580-837 | 1/1/16-12/31/17
Bookuk Steel
Daewoo International Corp
Dongkuk Steel Mill Co., Ltd
Hyundai Glovis Co., Ltd
Hyundai Mipo Dockard Co., Ltd
Hyundai Steel Company
Hyuosung Corporation
Samsung C&T Corp.
Samsung C&T Engineering & Construction Group
Samsung Heavy Industries
Samsung C&T Trading and Investment Group
SK Networks
Steel N People Co Ltd
Sung Jin Steel Co., Ltd
Socialist Republic of Vietnam: Steel Wire Garment Hangers, C-552-813 | 1/1/16-12/31/17
Angang Clothes Rack Manufacture Co
Asmara Home Vietnam
B2B Co., Ltd
Capco Wai Shing Viet Nam Co Ltd
Cong Ty Co Phan Moc AO
CTN Co Ltd
C.T.N. International Ltd
CTN Limited Company
Cty Tnhn Mtv Xnk My Phuoc
Cty Thnh San Xuat My Phuoc Long An Factory
Dai Nam Group
Dai Nam Investment JSC
Diep Son Hangers Co Ltd
Diep Son Hangers One Member Co Ltd
Dong Nam A Co Ltd
Dong Nam A Hamico Joint Stock Company
Dong Nam A Trading Co
EST Glory Industrial Ltd
Focus Shipping Corp
Godoxa Vietnam Co Ltd
Godoxa Viet Nam Ltd
HCMC General Import and Export Investment Joint Stock Company
Hongxiang Business and Product Co., Ltd
Huqhu Co., Ltd
Infinite Industrial Hanger Limited
Infinite Industrial Hanger Co Ltd
Ju Fu Co Ltd
Linh Sa Hamico Company, Ltd
Long Phung Co Ltd
Lucky Cloud (Vietnam) Hanger Co Ltd
Minh Quang Hanger
Minh Quang Steel Joint Stock Company
Moc Viet Manufacture Co., Ltd
Nam A Hamico Export Joint Stock Co
Nghia Phoung Nam Production Company
Nguyen Haong Vu Co Ltd
N-Tech Vina Co Ltd
NV Hanger Co., Ltd
Quoc Ha Production Trading Services Co Ltd
Quyky Co., Ltd
Quyky Group
Quyky-Yangle International Co., Ltd
S.I.I.C
South East Asia Hamico Exports JSC
T.J. Co Ltd
TJ Group
Tan Dihn Enterprise
Tan Dinh Enterprise
Tan Minh Textile Sewing Trading Co., Ltd
Thanh Hieu Manufacturing Trading Co Ltd
The Xuong Co Ltd
Thien Ngon Printing Co., Ltd
Top Sharp International Trading Limited
Triloan Hangers, Inc
Tri-State Trading
Trung Viet My Joint Stock Company
Truong Hong Lao-Viet Joint Stock Co., Ltd
Uac Co Ltd
Viet Anh Imp-Exp Joint Stock Co
Viet Hanger
Viet Hanger Investment, LLC
Vietnam Hangers Joint Stock Company
Vietnam Sourcing
VNS
VN Sourcing
Yen Trang Co., Ltd
The People's Republic of China: Certain Crystalline Silicon Photovoltaic Products, C-570-011 | 1/1/16-12/31/16
Baoding Jiasheng Photovoltaic Technology Co Ltd
Baoding Tianwei Yingli New Energy Resources Co., Ltd
Beijing Tianneng Yingli New Energy Resources Co Ltd
BYD (Shangluo) Industrial Co., Ltd
Canadian Solar Inc
Canadian Solar International, Ltd
Canadian Solar Manufacturing (Changshu), Inc
Canadian Solar Manufacturing (Luoyang), Inc
Chint Solar (Zhejiang) Co., Ltd
Changzhou Trina Solar Energy Co., Ltd
Hainan Yingli New Energy Resources Co., Ltd
Hefei JA Solar Technology Co., Ltd
Hengshui Yingli New Energy Resources Co., Ltd
Jinko Solar Co., Ltd
Jinko Solar Import and Export Co., Ltd
Lixian Yingli New Energy Resources Co., Ltd
Perlight Solar Co., Ltd
Risen Energy Co., Ltd
Shanghai BYD Co., Ltd
Shanghai JA Solar Technology Co., Ltd
Shenzhen Jiawei Photovoltaic Lighting Co., Ltd
Shenzhen Sungold Solar Co., Ltd
Shenzhen Yingli New Energy Resources Co., Ltd
Sunny Apex Development Limited
Tianjin Yingli New Energy Resources Co., Ltd
Trina Solar (Changzhou) Science and Technology Co., Ltd
Wuxi Suntech Power Co., Ltd
Yingli Energy (China) Co., Ltd
Yingli Green Energy International Trading Company Limited
Zhejiang Jinko Solar Co., Ltd
The People's Republic of China: Utility Scale Wind Towers, C-570-982 | 1/1/16-12/31/16
Alstom Sizhou Electric Power Equipment Co., Ltd
AUSKY (Shandong) Machinery Manufacturing Co., Ltd
AVIC International Renewable Energy Co., Ltd
Baotou Titan Wind Power Equipment Co., Ltd
Bashi Yuexin Logistics Development Co., Ltd
CATIC International Trade & Economic Development Ltd
Chengde Tianbao Machinery Co., Ltd
Chengxi Shipyard Co., Ltd
China WindPower Group
CleanTech Innovations Inc
CNR Wind Turbine Co., Ltd
CS Wind China Co., Ltd
CS Wind Corporation
CS Wind Tech (Shanghai) Co., Ltd
Dajin Heavy Industry Corporation
Greenergy Technology Co., Ltd
Guangdong No. 2 Hydropower Engineering Co., Ltd
Guodian United Power Technology Baoding Co., Ltd
Harbin Hongguang Boiler Group Co., Ltd
Hebei Ningqiang Group
Hebei Qiangsheng Wind Equipment Co., Ltd
Jiangsu Baolong Tower Tube Manufacture Co., Ltd
Jiangsu Baolong Electromechanical Mfg. Co., Ltd
Jiangsu Taihu Boiler Co., Ltd
Jiangyin Hengrun Ring Farging Co., Ltd
Jilin Miracle Equipment Manufacturing Engineering Co., Ltd
Jilin Tianhe Wind Power Equipment Co., Ltd (f/k/a Jilin Mingmen Wind Power Equipment Co., Ltd)
Jinan Railway Vehicles Equipment Co., Ltd
Nanjing Jiangbiao Group Co., Ltd
Nantong Dongtai New Energy Equipment Co., Ltd
Nantong Hongbo Windpower Equipment Co., Ltd
Ningxia Electric Power Group
Ningxia Yinxing Energy Co
Ningxia Yinyi Wind Power Generation Co., Ltd
Qingdao GeLinTe Environmental Protection Equipment Co., Ltd
Qingdao Ocean Group
Qingdao Pingcheng Steel Structure Co., Ltd
Qingdao Tianneng Electric Power Engineering Machinery Co., Ltd
Qingdao Wuxiao Group Co., Ltd
Renewable Energy Asia Group Ltd
SDV China Nanjing
Shandong Endless Wind Turbine Technical Equipment Co., Ltd
Shandong Iraeta Heavy Industry
Shandong Zhongkai Wind Power Equipment Manufacturers, Ltd
Shanghai Aerotech Trading International
Shanghai GE Guangdian Co., Ltd
Shanghai Taisheng Wind Power Equipment Co., Ltd
Shenyang Titan Metal Co., Ltd
Sinovel Wind Group Co., Ltd
Suihua Wuxiao Electric Power Equipment Co., Ltd
Titan (Lianyungang) Metal Product Co., Ltd
Titan Wind Energy (Suzhou) Co., Ltd
Vestas Wind Technology (China)
Wuxiao Steel Tower Co., Ltd
Xinjiang Huitong (Group) Co., Ltd
Zhangjiagang Zhiyi Medical Health

⁴ On December 15, 2016, Avanti Frozen Foods Private Limited was found to be the successor-in-interest to Avanti Feeds Limited. See Notice of Final Results of Antidumping Duty Changed Circumstances Review: Certain Frozen Warmwater Shrimp from India, 81 FR 90774 (December 15, 2016).

⁵ Shrimp produced and exported by Devi Sea Foods (Devi) was excluded from the AD Indian order effective February 1, 2009. See Certain Frozen Warmwater Shrimp from India: Final Results of Antidumping Duty Administrative Review, Partial Rescission of Review, and Notice of Revocation of Order in Part, 75 FR 41813, 41814 (July 19, 2010). Accordingly, we are initiating this administrative review with respect to Devi only for shrimp produced in India where Devi acted as either the manufacturer or exporter (but not both).

⁶ This company is conditionally under review pending the expiration of any further appeal associated with the litigation pertaining to the final determination of sales at less than fair value regarding this company. See Utility Scale Wind Towers from the Socialist Republic of Vietnam: Notice of Court Decision Not in Harmony With the Final Determination of Less Than Fair Value Investigation and Notice of Amended Final Determination of Investigation, 82 FR 15493 (March 29, 2017).

⁷ Shrimp produced and exported by Marine Gold Products Ltd (Marine Gold) were excluded from the AD Thailand order effective February 1, 2012. See Certain Frozen Warmwater Shrimp from Thailand: Final Results of Antidumping Duty Administrative Review, Partial Rescission of Review, and Revocation of Order (in Part); 2011-2012, 78 FR 42497, 42499 (July 16, 2013). Accordingly, we are initiating this administrative review with respect to Marine Gold only for shrimp produced in Thailand where Marine Gold acted as either the manufacturer or exporter (but not both).

⁸ In past reviews, the Department has treated these companies as a single entity. See, e.g., Certain Frozen Warmwater Shrimp from Thailand: Final Results of Antidumping Duty Administrative Review and Final Determination of No Shipments; 2014-2015, 81 FR 40671 (June 22, 2016). Absent information to the contrary, we intend to continue to treat these companies as a single entity for purposes of this administrative review. Additionally, on January 5, 2016, the Department found that Thai Union Group Public Co., Ltd is the successor-in-interest to Thai Union Frozen Products Public Co., Ltd See Notice of Final Results of Antidumping Duty Changed Circumstances Review: Certain Frozen Warmwater Shrimp from Thailand, 81 FR 222 (January 5, 2016).

⁹ In the final determination of the underlying investigation, we treated Jinko Solar Co Ltd and Jinko Solar Import and Export Co., Ltd together with Renesola Jiangsu Ltd and Renesola Zhejiang Ltd as a single entity. See Certain Crystalline Silicon Photovoltaic Products From the People's Republic of China: Final Determination of Sales at Less Than Fair Value, 79 FR 76970 (December 23, 2014).

Suspension Agreements

None.

¹⁰ This Order was revoked with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See Certain Frozen Warmwater Shrimp From the People's Republic of China and Diamond Sawblades and Parts Thereof from the People's Republic of China: Notice of Implementation of Determinations Under Section 129 of the Uruguay Round Agreements Act and Partial Revocation of the Antidumping Duty Orders, 78 FR 18958, 18959 (March 28, 2013). Accordingly, we are initiating this review for these exporters only with respect to subject merchandise produced by entities other than the aforementioned producers.

¹¹ This Order was revoked with respect to merchandise exported by Shantou Red Garden Foodstuff Co., Ltd., or Red Garden Food Processing Co., Ltd., and produced by Red Garden Food Processing Co., Ltd., or Chaoyang Jindu Hengchang Aquatic Products Enterprise Co., Ltd., or Raoping County Longfa Seafoods Co., Ltd., or Meizhou Aquatic Products Quick-Frozen Industry Co., Ltd., or Shantou Jinyuan District Mingfeng Quick-Frozen Factory, or Shantou Long Feng Foodstuffs Co., Ltd See Certain Frozen Warmwater Shrimp from the People's Republic of China and Diamond Sawblades and Parts Thereof From the People's Republic of China: Notice of Implementation of Determinations Under Section 129 of the Uruguay Round Agreements Act and Partial Revocation of the Antidumping Duty Orders, 78 FR 18958, 18959 (March 28, 2013). Accordingly, we are initiating this review for these exporters only with respect to subject merchandise produced by entities other than the aforementioned producers.

¹² This Order was revoked with respect to merchandise exported by Yelin Enterprise Co Hong Kong or Shantou Yelin Frozen Seafood Co., Ltd., and manufactured by Shantou Yelin Frozen Seafood Co., Ltd., or Yangjiang City Yelin Hoi Tat Quick Frozen Seafood Co., Ltd., or Fuqing Yihua Aquatic Food Co., Ltd., or Shantou Jinyuan District Mingfeng Quick-Frozen Factory. See Certain Frozen Warmwater Shrimp from the People's Republic of China and Diamond Sawblades and Parts Thereof From the People's Republic of China: Notice of Implementation of Determinations Under Section 129 of the Uruguay Round Agreements Act and Partial Revocation of the Antidumping Duty Orders, 78 FR 18958, 18959 (March 28, 2013). Accordingly, we are initiating this review for these exporters only with respect to subject merchandise produced by entities other than the aforementioned producers.

¹³ This Order was revoked with respect to subject merchandise produced and exported by Zhanjiang Guolian Aquatic Products Co., Ltd See Notice of Amended Final Determination of Sales at Less Than Fair Value and Antidumping Duty Order: Certain Frozen Warmwater Shrimp from the People's Republic of China, 70 FR 5149, 5152 (February 1, 2005). Accordingly, we are initiating this review for this exporter only with respect to subject merchandise produced by another entity.

¹⁴ This Order was revoked with respect to subject merchandise produced and exported by Zhanjiang Regal Integrated Marine Resources Co., Ltd See Certain Frozen Warmwater Shrimp from the People's Republic of China: Final Results of Administrative Review; 2011-2012, 78 FR 56209, 56210 (September 12, 2013). Accordingly, we are initiating this review for this exporter only with respect to subject merchandise produced by another entity.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in the Department's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

The Department's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.¹⁵ Parties are hereby reminded that revised certification requirements are in effect for company/government officials as well as their representatives. All segments of any antidumping duty or countervailing duty proceedings initiated on or after August 16, 2013, should use the formats for the revised certifications provided at the end of the Final Rule.¹⁶ The Department intends to reject factual submissions in any proceeding segments if the submitting party does not comply with applicable revised certification requirements.

¹⁵ See section 782(b) of the Act.

¹⁶ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: April 4, 2017.
Gary Taverman,
Associate Deputy Assistant Secretary for Antidumping and Countervailing Duty Operations.

[FR Doc. 2017-07104 Filed 4-7-17; 8:45 am]

BILLING CODE 3510-DS-P